DEPARTMENT OF AGRICULTURE

Forest Service

Klamath National Forest, California and Oregon, Mt. Ashland LSR Habitat Restoration and Fuels Reduction Project

AGENCY: Forest Service, USDA.

ACTION: Notice of intent to prepare an environmental impact statement.

SUMMARY: The Forest Service will prepare an environmental impact statement on a proposal to promote the development of late-successional habitat and reduce the risk of uncharacteristic wildfires on approximately 5013 acres.

DATES: Comments concerning the scope of the analysis must be received within 30 days of the publication of this notice in the Federal Register. The draft environmental impact statement is expected by January, 2006, and the final environmental impact statement is expected by July, 2006.

ADDRESSES: Send written comments to Margaret J. Boland, Forest Supervisor, Klamath National Forest, 1312 Fairlane Road, Yreka, California 96097. ATTN: Sue Stresser

FOR FURTHER INFORMATION CONTACT: Susan Stresser, Wildlife Biologist and Interdisciplinary Team Leader, Klamath National Forest, 132 Fairlane Road, Yreka, California 96097 or call (503) 841-4538.

SUPPLEMENTARY INFORMATION:

Purpose and Need for Action

The purpose of the Mt. Ashland Late-Successional Reserve (LSR) Habitat Restoration and Fuels Reduction Project is to promote the development of habitat for species dependent on late-successional forests and reduce the vulnerability of these stands and existing late-successional habitat to uncharacteristic wildfire. This project is proposed under the direction of Seciton 7(a)(1) of the Endangered Species Act that directs federal agencies to carry out programs for the conservation of threatened and endangered species. Agencies are also directed to conduct habitat restoration and enhance protection from catastrophic wildfire by the Healthy Forest Restoration Act, Northwest Forest Plan as incorporated in the Klamath National Forest Land and Resource Management Plan of 1995, and the National Fire Plan.

The need for actions in these watersheds results primarily from turn of the century railroad logging; resulting in mid-successional stands with high stem densities, altered species composition, and low diversity that currently provide limited habitat for late-successional species. Many of these stands are unlikely to develop into functional late-successional habitat without treatment, and are at risk to uncharacteristic wildfire. An additional need is to protect the limited amount of existing late-successional habitat in these watersheds from uncharacteristic wildfire.

Proposed Action

The proposal is to thin mid-successional stands to promote the development of late-successional habitat (habitat promotion areas), construct strategic fuelbreaks, and thin and reduce fuels in mid-successional stands, early-successional stands, and riparian reserves to reduce the risk of uncharacteristic wildfires.

• Habitat Promotion Areas: Approximately 70 acres of early-successional and 2549 acres of mid-successional forest will be treated by variable-density thinning of trees less than 20 inches diameter at breast height. Where site-specific conditions allow, thinning will promote the historic species composition. No late-successional forest will be thinned.

• Strategic Fuelbreaks: Five defensive fuel profile zones, a type of strategic fuelbreak, will be located on prominent ridges. Encompassing approximately 1714 acres, defensive fuel profile zones will be treated to reduce ground and ladder fuels, and maintain canopy closure at 40 to 50 percent. A small number of trees greater than 20 inches diameter at breast height, primarily true fir, may be felled to achieve density objectives but will be left on site.

• Riparian Reserve Treatments: Within 170 feet of streams, ground and ladder fuels will be treated by hand thinning and burning of handpiles. Between 170 and 340 feet from streams, thinning treatments similar to the Habitat Promotion Areas may occur. Within riparian reserves associated with unstable lands, thinning and fuel treatment will occur only on low risk areas. Approximately 412 acres of Riparian Reserve habitat will be treated.

• Fuel Treatments: All Habitat Promotion Areas and Strategic Fuelbreaks will have existing and/or project-generated fuels treated by a variety of fuels reduction treatments including: underburning, handpiling, lop and scatter, and mastication (grinding material with ground-based equipment). Approximately 268 acres will receive only underburn treatment. Roughly 50 acres of late-successional forest will be treated to reduce fuels.

The project is located in the portion of the Mt. Ashland LSR located on the Klmath National Forest in the upper reaches of the Beaver Creek Watershed. LSRs and Riparian Reserves were established for the Klamath National Forest as part of the Northwest Forest Plan management scenario. LSRs were established to protect and enhance conditions of late-successional and old-growth forest ecosystems, providing habitat for species such as the northern spotted owl. Riparian Reserves are portions of watersheds where riparian-dependent resources receive primary emphasis. This project is authorized under Section 102 of the Healthy Forest Restoration Act because it would provide “enhanced protection from catastrophic wildfire” for the habitat of a threatened species, the northern spotted owl.

Due to past logging, many stands in the LSR are mid and early successional. Development of late-successional characteristics can be accelerated, as the stands are young and thrifty enough to respond favorably to density reduction. Due to past fire suppression, many mid-successional stands have stocking so dense that it is not sustainable; the site's capacity to support vegetation is exceeded. Fuels reduction, mainly removal of small diameter material, and fuel breaks were identified as high priority for the area.

Thinned material greater than 9 and less than 20 inches diameter breast height will be offered in a timber sale contract to generate revenues to help fund the remainder of the work, which may be offered in one or more service or stewardship contracts. Of the stands containing merchantable material, it is estimated that 1268 acres will be removed with tractors and tractor-endlining, 662 acres with a mechanical harvester, 1422 acres with cable equipment, and 605 with a helicopter.

Lead and Cooperating Agencies

The Forest Services is the lead agency and the United States Fish and Wildlife Service is a cooperating agency.

Responsible Official

Margaret J. Boland, Forest Supervisor, USDA Forest Service, 1312 Fairlane Road, Yreka, California 96097 is the Responsible Official.

Nature of Decision To Be Made

The Forest Service must decide whether it will implement this proposal, an alternative design that moves the area towards the desired condition, or not implement any project at this time.

Scoping Process

The Forest Service and Fish and Wildlife Service have been collaborating on a proposal to improve habitat conditions in the Mt. Ashland LSR since May 2004. On July 6, 2004, this restoration project was included under the category of “developing proposal” in the Klamath National Forest's Schedule of Proposed Actions, which was posted on the Klamath National Forest's internet website and mailed to interested parties. A mailing list for the project was developed from those responding to the Schedule of Proposed Actions, a list of landowners near the project area, potentially affected Native American tribes, agencies with special expertise and groups that might be interested. Those on the mailing list were notified of a public field trip to the project area on Septebmer 29, 2004. Notices of the field trip were also sent to the Siskiyou Daily News, Yreka, California, and the Ashland Daily Tidings, Ashland, Oregon. A scoping letter describing the proposed action, purpose and need for the proposal, and requesting public comment will be sent to those on the mailing list. This notice of intent also invites public comment on the proposal and initiates the preparation of the environmental impact statement. While public participation in this analysis is welcome at any time, comments received within 30 days of the publication of this notice will be especially useful in the preparation of the draft environmental impact statement. The scoping process will include identifying potential issues, significant issues to be analyzed in depth, alternatives to the proposed action, and potential environmental effects of the proposal and alternatives.

Comment Requested

This notice of intent initiates the scoping process, which guides the development of the environmental impact statement. The public is encouraged to take part in the process and visit with Forest Service and Fish and Wildlife officials at any time during the analysis and prior to the decision. The Forest Service will be seeking information, comments and assistance from Federal, State, and local agencies and other individuals or organizations that may be interested in, or affected by, the proposed restoration activities.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: September 30, 2005.
Michael P. Lee,
Deputy Forest Supervisor.

[FR Doc. 05-20070 Filed 10-6-05; 8:45am]

BILLING CODE 3410-11-M